DEPARTMENT OF AGRICULTURE

Agricultural Marketing Service

[Doc. No. AMS-NOP-15-0059; NOP-15-14]

National Organic Standards Board (NOSB): Call for Nominations

AGENCY: Agricultural Marketing Service, USDA.

ACTION: Notice: Call for nominations.

SUMMARY: The National Organic Standards Board (NOSB) was established to assist in the development of standards for substances to be used in organic production and to advise the Secretary on the implementation of the Organic Foods Production Act of 1990 (OFPA). Through this Notice, the USDA is requesting nominations to fill one (1) unexpected vacancy on the NOSB for an environmentalist/resource conservationist position. The Secretary of Agriculture will appoint one person to this position to serve on the NOSB for the remainder of the term for this position, which began in January 24, 2015, and goes through January 23, 2020.

DATES: Written nominations must be postmarked on or before 30 days from publication of this Notice

ADDRESSES: Nomination applications are to be mailed to Michelle Arsenault, USDA-AMS-NOP, 1400 Independence Avenue SW., Room 2648-S., Ag Stop 0268, Washington, DC 20250; or electronically sent via Email to: Michelle.Arsenault@ams.usda.gov. Electronic submittals by email are preferred.

FOR FURTHER INFORMATION CONTACT: Michelle Arsenault, (202) 720-0081; Email: Michelle.Arsenault@ams.usda.gov.

SUPPLEMENTARY INFORMATION: The OFPA of 1990, as amended (7 U.S.C. Section 6501 et seq.), requires the Secretary to establish an organic certification program for producers and handlers of agricultural products that have been produced using organic methods. The OFPA includes the requirement that the Secretary establish an NOSB in accordance with the Federal Advisory Committee Act (FACA) (5 U.S.C. App. 2 et seq.). The purpose of the NOSB is to assist in the development of a proposed National List of Allowed and Prohibited Substances and to advise the Secretary on the implementation of the OFPA.

The NOSB is composed of 15 members; including 4 organic producers, 2 organic handlers, a retailer, 3 environmentalists/resource conservationists, 3 public/consumer representatives, a scientist, and a certifying agent. Through this Notice, USDA is seeking nominations to fill one (1) unexpected vacancy on the NOSB for an environmentalist/resource conservationist position. The Secretary of Agriculture will appoint one person to this position immediately to serve for the remainder of the term that began in January 24, 2015, and goes through January 23, 2020.

As per the OFPA, individuals seeking appointment to the NOSB at this time must have expertise in areas of environmental protection and resource conservation as identified under section 6515 of this title. Other selection criteria includes multiple factors, such as: Understanding of organic principles and practical experience in the organic community; demonstrated experience and interest in organic production and organic certification; demonstrated experience with respect to agricultural products produced and handled on certified organic farms; a commitment to the integrity of the organic food and fiber industry; demonstrated experience in the development of public policy such as participation on public or private advisory boards, boards of directors or other comparable organizations; support of consumer and public interest organizations; participation in standards development or involvement in educational outreach activities; the ability to evaluate technical information and to fully participate in Board deliberation and recommendations; the willingness to commit the time and energy necessary to assume Board duties; and other such factors as may be appropriate for specific positions.

To nominate yourself or someone else, please submit: A resume, a cover letter, and a Form AD-755, which can be accessed at: http://www.ocio.usda.gov/sites/default/files/docs/2012/AD-755_Master_2012_508_Ver.pdf. Resumes must be no longer than 5 pages, and include at the beginning a summary of the following information: Current and past organization affiliations; areas of expertise; education; career positions held; any other notable positions held. You may also submit a list of endorsements or letters of recommendation, if desired. Resume and completed requested background information are required for a nominee to receive consideration for appointment by the Secretary.

If USDA receives a request under the Freedom of Information Act (FOIA) (5 U.S.C. 552), for records relating to NOSB nominations, your application materials may be released to the requester. Prior to the release of the information, personally identifiable information protected by the FOIA Privacy Act will be redacted.

Nominations are open to all individuals without regard to race, color, religion, gender, national origin, age, mental or physical disability, marital status, or sexual orientation. To ensure that the recommendations of the NOSB take into account the needs of the diverse groups that are served by the Department, membership on the NOSB shall include, to the extent practicable, individuals with demonstrated ability to represent minorities, women, and persons with disabilities.

The information collection requirements concerning the nomination process have been previously cleared by the Office of Management and Budget (OMB) under OMB Control No. 0505-0001.

Dated: September 25, 2015.
Rex A. Barnes,
Associate Administrator, Agricultural Marketing Service.

[FR Doc. 2015-24800 Filed 9-29-15; 8:45 am]

BILLING CODE 3410-02-P